DEPARTMENT OF AGRICULTURE

National Agricultural Statistics Service

Notice of Intent To Request To Conduct a New Information Collection

AGENCY: National Agricultural Statistics Service, Agriculture (USDA).

ACTION: Notice and request for comments.

SUMMARY: In accordance with the Paperwork Reduction Act of 1995, this notice announces the intention of the National Agricultural Statistics Service (NASS) to seek approval to conduct a new information collection to gather data related to the motivations of targeted operators to adopt conservation practices.

DATES: Comments on this notice must be received by August 31, 2021 to be assured of consideration.

ADDRESSES: You may submit comments, identified by docket number 0535-NEW, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION: Title: National Conservation Practice Adoption Motivations Survey.

OMB Control Number: 0535-NEW.

Type of Request: Intent to seek approval to create a new information collection for a period of three years.

Abstract: The purpose of the survey is to target operations who own or operate cropland and/or concentrated livestock feeding operations. NASS will collect information about these types of operations to understand conservation practices within the United States in terms of the following: (1) How often are specific conservation practices adopted without assistance, with technical assistance and/or financial assistance. (2) How does adoption evolve over time? What proportion of producers who “try” a given practice continue or expand use over time? How many discontinue the practice? (3) What motivates farmers to initially try a practice and then continue, expand, or discontinue use? The questions reflect a range of factors including conservation need(s), experience(s) of neighbors, financial benefits or costs, producer's time and effort, availability of technical and financial assistance, regulation or conservation compliance, and concern about the environmental quality. The United States Department of Agriculture's Natural Resources Conservation Service has entered into an interagency agreement with NASS to conduct this survey.

Authority: These data will be collected under authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-113, 44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 60 minutes per response. NASS plans to mail out publicity materials prior to the questionnaires to inform respondents of the importance of this survey. Respondents will be able to reply to the mailed questionnaires by either an online link or by U.S. Postal Service. After two questionnaire mailings, NASS will mail a reminder, pressure sealed postcard to non-respondents with a link to the internet data collection tools, followed up with phone and personal enumeration of non-respondents to increase response rates and to minimize data collection costs.

Respondents: The 2022 survey will target operations who own or operate cropland as well as concentrated livestock feeding operations. Operators who have grazing land or forestry land will be done at a later date.

Estimated Number of Respondents: 35,200.

Estimated Total Annual Burden on Respondents: 35,614 hours.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological, or other forms of information technology collection methods.

All responses to this notice will become a matter of public record and be summarized in the request for OMB approval.

Signed at Washington, DC, June 28, 2021.
Kevin L. Barnes,
Associate Administrator.

[FR Doc. 2021-14169 Filed 7-1-21; 8:45 am]

BILLING CODE 3410-20-P